DEPARTMENT OF DEFENSE

Office of the Secretary

Defense Science Board

ACTION: Notice of Advisory Committee Meeting.

SUMMARY: The Defense Science Board (DSB) Task Force on Information Warfare—Defense will meet in closed session on January 18-19, 2000; February 22-23, 2000; March 28-29, 2000; April 19-20, 2000; May 25-26, 2000; and June 13-14, 2000, at Booze-Allen Hamilton McLean Campus, 8282 Greensboro Drive, McLean, VA 22182.

The mission of the Defense Science Board is to advise the Secretary of Defense and the Under Secretary of Defense for Acquisition, Technology & Logistics on scientific and technical matters as they affect the perceived needs of the Department of Defense. At these meetings, the Task Force will review the progress made since the 1996 Defense Science Board report on Information Warfare—Defense and determine the adequacy of the Department's process in providing information assurance to carry out Joint Vision 2010 in the face of information warfare attacks.

In accordance with Section 10(d) of the Federal Advisory Committee Act, Public Law 92-463, as amended (5 U.S.C. App. II (1994)), it has been determined that these Defense Science Board meetings, concern matters listed in 5 U.S.C. 552b(c)(1) (1994), and that accordingly these meetings will be closed to the public. However, due to critical mission requirements, the Task Force is unable to provide timely notice of its first meeting on January 18-19, 2000.

Dated: January 11, 2000.
L.M. Bynum,
Alternate OSD Federal Register Liaison Officer, Department of Defense.

[FR Doc. 00-1862 Filed 1-23-00; 8:45 am]

BILLING CODE 5001-10-M